DEPARTMENT OF HEALTH AND HUMAN SERVICES

Centers for Disease Control and Prevention

Disease, Disability, and Injury Prevention and Control Special Emphasis Panel (SEP): Understanding Social Disparities in Chronic Disease Health Outcomes, Program Announcement Number DP-05-132

In accordance with section 10(a)(2) of the Federal Advisory Committee Act (Pub. L. 92-463), the Centers for Disease Control and Prevention (CDC) announces the following meeting:

Name: Disease, Disability, and Injury Prevention and Control Special Emphasis Panel (SEP): Understanding Social Disparities in Chronic Disease Health Outcomes, Program Announcement Number DP-05-132.

Time and Date: 3 p.m.-5 p.m., September 1, 2005 (Closed)

Place: Teleconference.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to: Understanding Social Disparities in Chronic Disease Health Outcomes, Program Announcement Number DP-05-132.

Contact Person for More Information: Gwen Cattledge, PhD, Scientific Review Administrator, National Center for Chronic Disease Prevention and Health Promotion, 4770 Buford Highway, MS-K92, Atlanta, GA 30341, Telephone 770-488-4655.

The Director, Management Analysis and Services Office, has been delegated the authority to sign Federal Register notices pertaining to announcements of meetings and other committee management activities, for both CDC and the Agency for Toxic Substances and Disease Registry.

Dated: August 8, 2005.
Alvin Hall,
Director, Management Analysis and Services Office, Centers for Disease Control and Prevention.

[FR Doc. 05-15999 Filed 8-11-05; 8:45 am]

BILLING CODE 4163-18-P